DEPARTMENT OF HEALTH AND HUMAN SERVICES

Administration for Children and Families

Submission for OMB Review; Comment Request

Title: Evaluation of Tribal Health Profession Opportunity Grants (HPOG).

OMB No.: New collection.

Description: The Administration for Children and Families (ACF) is proposing information collection activities as part of the Evaluation of the Tribal Health Profession Opportunity Grants (HPOG) (HHS-2010-ACF-OFA-FY-0124). Through this information collection, ACF seeks to conduct a comprehensive process and outcome evaluation to provide documentation and lessons learned about diverse programmatic approaches to health professions trainings for Tribal populations.

The goals of the Tribal HPOG evaluation are to: (1) Provide an in-depth, systematic analysis of program structure, implementation and outcomes of the sites served by the five Tribal HPOG grantees funded in FY 2010, and (2) compare these data within and across grantees to generate hypotheses about the effectiveness of different program approaches for Tribal populations.

Both of these goals require collecting information from Tribal HPOG grantees and other program stakeholders on an annual basis for three years. The information collection will include data gathered through in-person and telephone interviews and focus groups. Program operations data related to this effort will be collected through a Web based performance reporting system under a separate information collection (the Federal Register Notice for this information collection was published in Vol. 76, No. 18, January 27, 2011, page 4912).

Respondents: Respondents to the Grantee and Partner Administrative Staff interview will be the administrators of the Tribal HPOG program, workforce development and TANF agencies, public and private university-based partners, and not-for profit organizations. Respondents to the Program Implementation Staff interview will be instructors, trainers, and providers of program or supportive services. Respondents to the Employers interview will be local or regional employers at public or private companies or organizations that are partnering with the Tribal HPOG program or have employed program participants. Respondents to the Program Participant focus groups or interviews will be current program participants. Interviews will be conducted in lieu of focus groups with program participants at secondary implementation sites (additional locations where the Tribal HPOG program are being implemented) in the middle data collection year. Respondents to the Program Completers interview will be program completers.

Respondents to the Program Non-completers interview will be individuals who did not complete the programs.

Annual Burden Estimates
Instrument | Annual number of respondents | Number of responses per respondent | Average burden hours per response | Total annual burden hours
Grantee and Partner Administrative Staff interview | 35 | 1 | 1 | 35
Program Implementation Staff interview | 117 | 1 | 1.5 | 176
Employers interview | 52 | 1 | 0.75 | 39
Program Participant focus groups or interviews | 117 | 1 | 1.35 | 158
Program Completers interview | 67 | 1 | 1 | 67
Program Noncompleters interview | 20 | 1 | 0.5 | 10

Estimated Total Annual Burden Hours: 485.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration, for Children and Families.

Dated: June 22, 2011.
Steven M. Hanmer,
OPRE Reports Clearance Officer.

[FR Doc. 2011-16212 Filed 6-29-11; 8:45 am]

BILLING CODE 4184-09-M